DEPARTMENT OF DEFENSE

Department of the Army

Notice of Availability for the Record of Decision (RDO) for the Disposal and Reuse of Fort Chaffee, Arkansas

AGENCY: Department of the Army, DoD.

ACTION: Notice of availability.

SUMMARY: In compliance with the National Environmental Policy Act (NEPA) of 1969 and the President's Council on Environmental quality, the Army has prepared the ROD in association with the completion of the Final Environmental Impact Statement (FEIS) for the disposal and Reuse of Fort Chaffee, Arkansas. The approved 1995 base closure and realignment actions required by the Base Closure and Realignment Act of 1990 (Pub. L. 101-510), and subsequent actions in compliance with this law, mandated the closure of Fort Chaffee. It is DoD policy to dispose of property no longer needed by DoD. Consequently, as a result of the mandated closure of Fort Chaffee, the Army is disposing of excess property at Fort Chaffee.

The ROD establishes the Army's decision to proceed with the disposal of excess properties/facilities in accordance with the Army's preferred alternative (encumbered disposal) described in the FEIS.

ADDRESSES: Requests for a copy of the FEIS or ROD may be addressed to Mr. Jim Ellis, Little Rock District, U.S. Army Corps of Engineers, ATTN: CESWL-ET-WP, PO Box 867, Little Rock, AR 72203.

FOR FURTHER INFORMATION CONTACT: Mr. Jim Ellis at (501) 324-5033 or by fax at (501) 324-5605.

SUPPLEMENTARY INFORMATION: The FEIS analyzed three disposal alternatives: (1) The no action alternative, which entails maintaining the property in caretaker status after closure: (2) the encumbered disposal alternative, which entails transferring the property to future owners with Army-imposed limitations, or encumbrances, on the future use of the property; and (3) the unencumbered disposal alternative, which entails transferring the property to future owners with fewer or no Army-imposed restrictions on the future use of the property. The preferred action identified in the FEIS is encumbered disposal of excess property at Fort Chaffee. Based upon the analysis contained in the FEIS, encumbrances and deed restrictions associated with the Army's disposal actions for Fort Chaffee will mitigation measures.

Planning for the reuse of the property to be disposed of is a secondary action resulting from closure. The local community has established the Fort Chaffee Redevelopment Authority (FCRA) to produce a reuse development plan for the surplus property. The impacts of reuse are evaluated in terms of land use intensities. This reuse analysis is based upon implementing one of three reuse alternatives, all of which are based upon the FCRA reuse plan. The Army has not selected one of these three reuse alternatives as the preferred action. Selection of the preferred reuse plan is a decision that will be made by the FCRA.

Dated: May 18, 2000.
Raymond J. Patz,
Deputy Assistant Secretary of the Army, (Environment, Safety and Occupational Health) OASA(I&E).

[FR Doc. 00-12935 Filed 5-22-00; 8:45 am]

BILLING CODE 3710-08-M